DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans that are final. The actions relate to a proposed highway project, the State Route 14/Avenue N Interchange Improvement Project (Post Miles R63.4 to PM R63.9) in the City of Palmdale in Los Angeles County, California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before November 19, 2020. If the Federal law that authorizes judicial review of a claim provides a time period of less than 150 days for filing such claim, then that shorter time period still applies.

FOR FURTHER INFORMATION CONTACT: For Caltrans: Karl Price, Senior Environmental Planner, Caltrans District 7, 100 South Main Street, Suite MS 16A, Los Angeles, California, 90012, (213) 266-3822, or email karl.price@dot.ca.gov. For FHWA, contact David Tedrick at 916.498-5024 or email david.tedrick@dot.gov.

SUPPLEMENTARY INFORMATION: Effective July 1, 2007, the FHWA assigned, and the Caltrans assumed, environmental responsibilities for this project pursuant to 23 U.S.C. 327. Notice is hereby given that the Caltrans has taken final agency actions subject to 23 U.S.C. 139(l)(1) by issuing licenses, permits, and approvals for the following highway project in the State of California: The State Route 14/Avenue N Interchange Improvement Project to construct two roundabouts at the Avenue N and SR-14 Interchange. It would also widen Avenue N between 17th Street West and 10th Street West to accommodate additional traffic lanes, a raised center median, sidewalks, and bike lanes. The actions by the Federal agencies, and the laws under which such actions were taken, are described in the Environmental Assessment/Finding of No Significant Impact (EA/FONSI) for the project, approved on October 31, 2019, and in other documents in the FHWA project records. The EA/FONSI and other project records are available by contacting Caltrans at the addresses provided above. The Caltrans EA/FONSI can be viewed and downloaded from the project website at https://www.cityofpalmdale.org/277/Environmental-Documents.

This notice applies to all Federal agency decisions as of the issuance date of this notice and all laws under which such actions were taken, including but not limited to:

1. National Environmental Policy Act (NEPA) (42 U.S.C. 4321-4351)

2. Clean Air Act (42 U.S.C. 7401-7671 (q))

3. Migratory Bird Treaty Act (16 U.S.C. 703-712)

4. Title VI of the Civil Rights Act of 1964, as amended

5. Historic and Cultural Resources: Section 106 of the National Historic Preservation Act of 1966, as amended (16 U.S.C. 470(f) et seq.)

6. Clean Water Act (Section 401) (33 U.S.C. 1251-1377)

7. Federal Endangered Species Act of 1973 (16 U.S.C. 1531-1543)

8. Executive Order 11990—Protection of Wetlands

9. Department of Transportation Act of 1966, Section 4(f) (49 U.S.C. 303)

10. Noise Control Act of 1972

11. Executive Order 13112—Invasive Species

(Catalog of Federal Domestic Assistance Program Number 20.205, Highway Planning and Construction. The regulations implementing Executive Order 12372 regarding intergovernmental consultation on Federal programs and activities apply to this program.)

Authority: 23 U.S.C. 139(l)(1).

Issued on: June 16, 2020.
Rodney Whitfield,
Director, Financial Services, Federal Highway Administration, California Division.

[FR Doc. 2020-13399 Filed 6-19-20; 8:45 am]

BILLING CODE 4910-RY-P